NATIONAL SCIENCE FOUNDATION

Advisory Committee for Integrative Activities; Notice of Meeting

In accordance with the Federal Advisory Committee Act (Pub. L. 92-463, as amended), the National Science Foundation (NSF) announces the following meeting:

NAME AND COMMITTEE CODE: Advisory Committee for Integrative Activities—NSF 2026 Idea Machine Blue Ribbon Panel (#1373).

DATE AND TIME: September 16, 2019; 8:30 a.m.-5:00 p.m.

PLACE: National Science Foundation, 2415 Eisenhower Avenue, Alexandria, VA 22314.

TYPE OF MEETING: Closed.

CONTACT PERSON: Lin He, Acting Deputy Division Director, Room E9316; National Science Foundation, 2415 Eisenhower Avenue, Alexandria, VA 22314. Contact Information: 703-292-4956/lhe@nsf.gov.

PURPOSE OF MEETING: To provide advice and recommendations to the NSF as part of the selection process for NSF 2026 Idea Machine Grand Prize awardees.

AGENDA: To review and evaluate competition materials as part of the selection process for awardees.

REASON FOR CLOSING: The materials being reviewed include information of a personal nature about individuals who submitted comments on the competition entries, where disclosure would constitute unwarranted invasions of personal privacy. These matters are exempt under 5 U.S.C. 552b(c)(6) of the Government in the Sunshine Act.

Dated: August 27, 2019.
Crystal Robinson,
Committee Management Officer.

[FR Doc. 2019-18817 Filed 8-29-19; 8:45 am]

BILLING CODE 7555-01-P